NUCLEAR REGULATORY COMMISSION

10 CFR Part 50

[NRC-2011-0087]

RIN 3150-AI96

Options for Developing the Regulatory Basis for Streamlining Non-Power Reactor License Renewal and Non-Power Reactor Emergency Preparedness

AGENCY: Nuclear Regulatory Commission.

ACTION: Notice of public meeting.

SUMMARY: The U. S. Nuclear Regulatory Commission (NRC or the Commission) will conduct a public meeting with affected stakeholders to discuss the proposed options for developing the regulatory basis for streamlining non-power reactor license renewal and non-power reactor emergency preparedness. This meeting is a follow-up to the NRC's public meeting held September 13, 2011 in Idaho Falls, Idaho, to discuss establishing the technical basis for proposing rulemaking to streamline the non-power reactor license renewal process, options for reorganizing the structure of regulations that pertain to non-power reactors, and potential enhancements to emergency preparedness requirements. This meeting is open to the public.

DATES: Date and Time for Open Session: Monday, December 19, 2011, 1:30 p.m. to 4:30 p.m. (Eastern Standard Time).

ADDRESSES: Public meeting: U.S. Nuclear Regulatory Commission, One White Flint North Building, Room O13-B4, 11555 Rockville Pike, Rockville, MD 20852.

FOR FURTHER INFORMATION CONTACT: Duane Hardesty, Project Manager, Research and Test Reactors Licensing Branch, Division of Policy and Rulemaking, Office of Nuclear Reactor Regulation, U.S. Nuclear Regulatory Commission, 11555 Rockville Pike, Rockville, MD 20852. Telephone: (301) 415-3724; fax number: (301) 415-1032; email: Duane.Hardesty@nrc.gov.

SUPPLEMENTARY INFORMATION: On December 6, 2011, (Agencywide Documents Access and Management System (ADAMS) Accession No. ML113400015) the NRC published a notice of public meeting (Category 2 Public Meeting to Discuss the Regulatory Basis for Streamlining the Non-power Reactor License Renewal) to be held December 19, 2011. Options being considered in the regulatory basis were provided as an attachment to the meeting notice.

I. Background

In Staff Requirements Memorandum (SRM) SRM-SECY-08-0161 (ADAMS Accession No. ML090850159) the Commission directed the staff to develop and submit for Commission review a long-term plan for an enhanced Research and Test reactor (RTR) license renewal process. The Commission advised that this long term plan should consider elements of the generic analysis approach, generic siting analysis, and the extended license term described in SECY-08-0161 (ADAMS Accession No. ML082550140) to establish a stable and predictable regulatory regime for RTRs.

Based on the Commission's direction and the comments received during the public meeting held on September 13, 2011, (ADAMS Accession No. ML112710285), the staff is hosting the December 19, 2011 meeting to discuss the proposed options being considered in development of the regulatory basis for streamlining the non-power license renewal process. The NRC staff will also discuss possible changes to EP requirements for non-power reactors. The NRC notes that the public, licensees, certificate holders, and other stakeholders will have a future opportunity to comment on the regulatory basis document when it is published in the Federal Register.

II. Availability of Documents

You can access publicly available documents related to this notice using the methods below.

Please include Docket ID NRC-2011-0087 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web Site: Go to http://www.regulations.gov and search for documents filed under Docket ID NRC-2011-0087. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov.

• Federal Rulemaking Web Site: Public comments and supporting materials related to this notice can be found at http://www.regulations.gov by searching on Docket ID NRC-2011-0087.

III. Availability of Services

The NRC provides reasonable accommodations to individuals with disabilities where appropriate. If you need a reasonable accommodation to participate in this meeting (e.g., sign language), or need this meeting notice or other information from the meeting in another format, please notify the NRC meeting contact, Duane Hardesty at (301) 415-3724 by December 16, 2011, so arrangements can be made.

All expected attendees must register with the NRC meeting contact by close of business on December 16, 2011. All attendees are to use the main One White Flint visitor entrance. The NRC is accessible to the White Flint Metro Station. Visitor parking near the NRC buildings is limited.

Dated at Rockville, Maryland, this 13th day of December, 2011.
For the Nuclear Regulatory Commission.
Jessie F. Quichocho,
Division of Policy and Rulemaking, Office of Nuclear Reactor Regulation.

[FR Doc. 2011-32389 Filed 12-15-11; 8:45 am]

BILLING CODE 7590-01-P